FEDERAL RETIREMENT THRIFT INVESTMENT BOARD

Notice of Board Meeting

DATES: January 24, 2022 at 10:00 a.m.

ADDRESSES: Telephonic. Dial-in (listen only) information: Number: 1-415-527-5035, Code: 2761 848 5183; or via web: https://tspmeet.webex.com/tspmeet/onstage/g.php?MTID=e2c537a102b28d363f50c65b23d17849e.

FOR FURTHER INFORMATION CONTACT: Kimberly Weaver, Director, Office of External Affairs, (202) 942-1640.

SUPPLEMENTARY INFORMATION:

Board Meeting Agenda

Open Session

1. Approval of the December 17, 2021 Board Meeting Minutes

2. Monthly Reports

(a) Participant Activity Report

(b) Legislative Report

3. Quarterly Reports

(c) Investment Policy

(d) Audit Status

(e) Budget Review

4. Annual Expense Ratio

5. Financial Systems Modernization (FSM) Update

6. Converge Update

Authority: 5 U.S.C. 552b(e)(1).

Dated: January 12, 2022.
Dharmesh Vashee,
General Counsel, Federal Retirement Thrift Investment Board.

[FR Doc. 2022-00840 Filed 1-14-22; 8:45 am]

BILLING CODE 6760-01-P